DEPARTMENT OF COMMERCE

International Trade Administration

[A-533-810]

Stainless Steel Bar From India; Final Results of Antidumping Duty Administrative Review

AGENCY: Import Administration, International Trade Administration, Department of Commerce.

ACTION: Notice of final results of antidumping duty administrative review.

SUMMARY: On March 7, 2003, the Department of Commerce published the preliminary results of the administrative review of the antidumping duty order on stainless steel bar from India. We gave interested parties an opportunity to comment on the preliminary results and have made certain changes for the final results. We find that certain companies reviewed sold stainless steel bar from India in the United States below normal value during the period February 1, 2001 through January 31, 2002.

EFFECTIVE DATE: August 11, 2003.

FOR FURTHER INFORMATION CONTACT: Cole Kyle or Ryan Langan, Office 1, AD/CVD Enforcement, Import Administration, International Trade Administration, U.S. Department of Commerce, 14th Street and Constitution Avenue, NW., Washington DC 20230; telephone (202) 482-1503 or (202) 482-2613, respectively.

SUPPLEMENTARY INFORMATION:

Background

On March 7, 2003, the Department published the Notice of Preliminary Results of Antidumping Duty Administrative Review: Stainless Steel Bar from India (“Preliminary Results”) in the Federal Register (68 FR 11058).

In April and May 2003, we conducted verifications of the sales and cost of production (“COP”) questionnaire responses submitted by Isibars Limited (“Isibars”), Venus Wire Industries Limited (“Venus”), and the Viraj Group, Ltd. (“Viraj”). We issued verification reports in May and June 2003.

After inviting parties to comment on the Preliminary Results of this review, Carpenter Technology Corp., Crucible Specialty Metals Division of Crucible Materials Corp., Electralloy Corp., Slater Steels Corp., Empire Specialty Steel and the United Steelworkers of America (AFL-CIO/CLC) (collectively, “the petitioners”), and Mukand, Ltd. (“Mukand”), Venus Wire Industries Limited (“Venus”), and the Viraj Group, Ltd. (“Viraj”) filed case and rebuttal briefs,¹ respectively, on June 30 and July 9, 2003.

Scope of the Order

Merchandise covered by the order is shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which, if less than 4.75 mm in thickness, have a width measuring at least 10 times the thickness, or, if 4.75 mm or more in thickness, have a width which exceeds 150 mm and measures at least twice the thickness), wire (i.e., cold-formed products in coils, of any uniform solid cross section along their whole length, which do not conform to the definition of flat-rolled products), and angles, shapes and sections.

¹ The other company in this review, Isibars Limited, did not file case or rebuttal briefs.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of this order is dispositive.

Analysis of Comments Received

All issues raised in the case and rebuttal briefs by parties to this administrative review are addressed in the Issues and Decision Memorandum for the Final Results of the Administrative Review of Stainless Steel Bar from India (“Decision Memorandum”) dated August 4, 2003, which is hereby adopted by this notice. A list of the issues which parties raised and to which we responded, all of which are in the Decision Memorandum, is attached to this notice as an Appendix. Parties can find a complete discussion of all issues raised in this review and the corresponding recommendations in this public memorandum which is on file in the Central Records Unit, Room B-099 of the main Department building (“CRU”). In addition, a complete version of the Decision Memorandum can be accessed directly on the Web at http://ia.ita.doc.gov/frn/index.html. The paper copy and electronic version of the Decision Memorandum are identical in content.

Facts Otherwise Available

We continue to find that Mukand did not cooperate to the best of its ability in this review and are assigning Mukand an antidumping duty rate based on total adverse facts available. See section 776 of the Tariff Act of 1930, as amended effective January 1, 1995 (“the Act”), by the Uruguay Round Agreements Act (“URAA”). See also Preliminary Results and Decision Memorandum at Comment 1.

Fair Value Comparisons

To determine whether sales of stainless steel bar from India to the United States were made at less than fair value, we compared export price (“EP”) or constructed export price (“CEP”) to normal value (“NV”). Our calculations followed the methodologies described in the Preliminary Results, except as noted below and in the final results calculation memoranda cited below, which are on file in the CRU.

Export Price and Constructed Export Price

For sales by Isibars' and Venus to the United States, we used EP as defined in section 772(a) of the Act. For Viraj's sales to the United States, we used CEP as defined in section 772(b) of the Act.

Isibars

In the preliminary results, we adjusted Isibars' U.S. sales price for an excise tax that appeared to be included in the price. We are not making this adjustment for the final results (see Decision Memorandum at Comment 8). We recalculated Isibars' indirect selling expenses to include bad debts written off (see Decision Memorandum at Comment 7). Finally, we revised Isibars' reported sales invoice dates and credit expenses for certain sales. See Isibars Limited Final Results Calculation Memorandum (“Isibars Calculation Memorandum”) dated August 4, 2003.

Venus

For certain U.S. sales, we revised the reported payment date and credit expenses (see Decision Memorandum at Comment 17). We revised the calculation of indirect selling expenses. Specifically, we revised the calculation of directors' salaries and allocated the indirect selling expenses over the cost of goods sold for the POR. We revised the reported quantity for one U.S. sale and revised the sales invoice date on another U.S. sale. For further discussion of these adjustments, see Venus Wire Industries Limited Final Results Calculation Memorandum (“Venus Calculation Memorandum”) dated August 4, 2003.

Normal Value

1. Calculation of COP

Isibars

We adjusted Isibars' reported cost of manufacture (“COM”) to include payments for the lease of steelmaking assets. We also adjusted Isibars' reported COM for the yield loss incurred on the variable and fixed overhead cost of billets used in the production of subject merchandise. We adjusted the denominators of Isibars' reported general and administrative (“G&A”) and interest expense ratios (used to determine product-specific G&A and interest expenses) to exclude administrative labor costs and to include the payment for the lease of steelmaking assets. We recalculated Isibars' reported interest expense ratio and per-unit interest expense rate to reflect one interest expense ratio based on the highest level of consolidation. We adjusted Isibars’, Zenstar's and Isinox’ interest expenses, where applicable, to include all foreign exchange gains and losses in each company's interest expenses. For Isinox, we excluded foreign exchange gains and losses from its G&A expenses. Because Isibars did not provide the COP data for one product control number, we assigned that product control number the costs of a similar product.

For a detailed discussion of the above-mentioned adjustments, see Isibars Cost of Production and Constructed Value Calculation Adjustments for the Final Results dated August 4, 2003, and the Decision Memorandum at Comments 2-6.

Venus

We adjusted Venus' reported COM to include additional material costs based on corrected production quantities. We adjusted Venus' reported COM for process and yield loss incurred during fiscal year (“FY”) 2001-2002. Because Venus was able to explain its yield loss methodology at verification, we allowed its scrap offset for the final results. Further, we adjusted Venus' reported fixed overhead per-unit costs for depreciation expenses incurred for FY 2001-2002.

We adjusted the numerator of Venus' reported G&A expenses to include donations and losses on the sale of assets and to exclude prior-period adjustments. We adjusted the denominators of Venus' reported G&A and interest expense ratios (used to determine product-specific G&A and interest expenses) to reflect cost of goods sold for FY 2001-2002. Finally, we recalculated Venus' reported interest expenses to include net foreign exchange gains and losses.

For a detailed discussion of the above-mentioned adjustments, see Venus Wire Industries Limited Cost of Production and Constructed Value Calculation Adjustments for the Final Results dated August 4, 2003, and the Decision Memorandum at Comments 15-19.

Viraj

We revised Viraj Alloys Limited's (“VAL”) reported depreciation expense to account for an additional depreciation expense that resulted from a change in depreciation methods. Because this depreciation expense covers multiple accounting periods, we amortized the amount based on the average remaining life of VAL's fixed assets in order to determine what portion should be allocated for the POR and included it in the G&A expense ratio calculation. We included the POR's portion of the additional depreciation expense in the denominator of the G&A expense rate calculation.

VAL calculated its interest expense rate based on total interest expenses and total cost of sales (“COS”) of the Viraj Group of companies. Because the Viraj Group of companies does not prepare consolidated financial statements, we revised VAL's interest expense rate calculation using only VAL's interest expense and COS. In addition, we excluded VAL's waived interest expenses from its interest expense ratio calculation.

For a detailed discussion of the above-mentioned adjustments, see Cost of Production and Constructed Value Calculation Adjustments for the Final Results (“Viraj Cost Calculation Memorandum”) dated August 4, 2003, and the Decision Memorandum at Comments 11-14.

2. Results of the COP Test

Pursuant to section 773(b)(1) of the Act, where less than 20 percent of a respondent's sales of a given product are made at prices below the COP, we do not disregard any below-cost sales of that product because we determine that in such instances the below-cost sales were not made in “substantial quantities.” Where 20 percent or more of a respondent's sales of a given product are at prices less than the COP, we disregard those sales of that product because we determine that in such instances the below-cost sales represent “substantial quantities” within an extended period of time in accordance with section 773(b)(1)(A) of the Act. In such cases, we also determine whether such sales are made at prices which would not permit recovery of all costs within a reasonable period of time, in accordance with section 773(b)(1)(B) of the Act.

Isibars and Venus each made more than 20 percent of their comparison market sales, for certain products, at prices less than the COP and, thus, we disregarded these sales from the calculation of NV. We found that Viraj did not make more than 20 percent of its sales of any product at prices less than the COP. So, we have included all of Viraj's home market sales in the calculation of NV, in accordance with section 773(b)(1).

3. Calculation of NV

Isibars

We accounted for rebates in the calculation of NV. (We overlooked rebates inadvertently in our calculations for the preliminary results.) We revised the sizes and control numbers reported for certain sales due to minor corrections presented at verification. We recalculated indirect selling expenses to include bad debts written off (see Decision Memorandum at Comment 3). Also, we recalculated imputed credit expenses, and we adjusted certain sales quantities for returned sales. In addition, we revised payment dates and payment terms for certain sales. For a further discussion of these adjustments, see Isibars Calculation Memorandum.

Venus

We revised the calculation of indirect selling expenses. Specifically, we revised Venus' calculation of directors' salaries and allocated the indirect selling expenses over the cost of goods sold for the POR (see Venus Calculation Memorandum).

Viraj

We revised a sales invoice date based on information provided at verification. See Viraj Group, Ltd. Final Results Calculation Memorandum dated August 4, 2003.

Calculation of Constructed Value

We calculated constructed value (“CV”) based on the same methodology described in the Preliminary Results except that we made all of the same above-described adjustments to CV that we made to COP for Isibars and Venus. For Viraj, we adjusted Viraj Impoexpo Ltd.”s (“VIL”) raw material costs based on VAL's COP. Thus, we revised VIL's raw material costs to reflect the adjustments made to VAL's G&A and interest expense ratios (see supra at “Calculation of COP”). In addition, VIL excluded certain “usance” expenses and bank charges from the interest expense ratio calculation. We revised VIL's interest expense to exclude only the bank charges which were reported as selling expenses. For a detailed discussion of the above-mentioned adjustments, see Viraj Cost Calculation Memorandum and the Decision Memorandum at Comments 9 and 11-14.

Final Results of Review

We determine that the following percentage margins exist for the period February 1, 2001, through January 31, 2002:

Exporter/manufacturer | Weighted- average margin percentage
Isibars Limited | 4.59
Mukand, Ltd | 21.02
Venus Wire Industries Limited | *0.02
Viraj Group, Ltd | 0.00
*(De minimis)

Assessment Rates

The Department shall determine, and the United States Bureau of Customs and Border Protection (“BCBP”) shall assess, antidumping duties on all appropriate entries. In accordance with 19 CFR 351.212(b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per-unit assessment rate by aggregating the dumping margins calculated for all U.S. sales to that importer (or customer) and dividing this amount by the total quantity sold to that importer (or customer).

The Department will issue appropriate assessment instructions directly to the BCBP within 15 days of publication of these final results of review.

Cash Deposit Rates

The following antidumping duty deposits will be required on all shipments of stainless steel bar from India entered, or withdrawn from warehouse, for consumption, effective on or after the publication date of the final results of this administrative review, as provided by section 751(a)(1) of the Act: (1) The cash deposit rate for Isibars Limited and Mukand, Ltd. will be the rate indicated above; for Venus Wire Industries Limited and the Viraj Group, Ltd., which have de minimis or zeros rates, no antidumping duty deposit will be required; (2) for previously reviewed or investigated companies not listed above, the cash deposit rate will continue to be the company-specific rate published for the most recent period; and (3) the cash deposit rate for all other exporters will continue to be 12.45 percent, the “all others” rate established in the less-than-fair-value investigation. See Stainless Steel Bar from India; Final Determination of Sales at Less Than Fair Value, 59 FR 66915 (December 28, 1994).

These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and this notice in accordance with sections 751(a)(1) and 777(i)(1) of the Act.

Dated: August 4, 2003.
Joseph A. Spetrini,
Acting Assistant Secretary for Grant Aldonas, Under Secretary.

Appendix 1

Issues in Decision Memorandum

Comment 1. Use of Adverse Facts Available for Mukand

Comment 2. Isibars' Start-up Adjustment

Comment 3. Isibars' Variable and Fixed Overhead Costs

Comment 4. Isibars' General and Administrative Expenses

Comment 5. Isibars' Offsets for Reimbursements of Insurance Claims

Comment 6. Isibars' Interest Expenses

Comment 7. Isibars' Indirect Selling Expenses

Comment 8. Isibars' Excise Taxes

Comment 9. Viraj's Selling Expenses

Comment 10. Collapsing the Viraj Group of Companies

Comment 11. Viraj's Calculation of Depreciation

Comment 12. Viraj's Forgiven Interest Expense

Comment 13. Viraj's Unconsolidated Financial Statements

Comment 14. Viraj's Offset To Interest Expenses

Comment 15. Venus' Scrap Realization Offset

Comment 16. Venus' General and Administrative Expense Ratio Adjustments

Comment 17. Venus' Interest Expense Ratio Adjustment

Comment 18. Venus' Depreciation Expense and Repairs and Maintenance Expense

Comment 19. Venus' Foreign Exchange Gains and Losses

Comment 20. Venus' Income Tax Provision

[FR Doc. 03-20321 Filed 8-8-03; 8:45 am]

BILLING CODE 3510-DS-P